DEPARTMENT OF COMMERCE

International Trade Administration

[A-560-818, A-533-843, A-570-901]

Notice of Postponement of Preliminary Determination of Antidumping Duty Investigation: Certain Lined Paper Products from the People's Republic of China, India, and Indonesia

AGENCY: Import Administration, International Trade Administration, Department of Commerce.

EFFECTIVE DATE: February 10, 2006.

FOR FURTHER INFORMATION CONTACT: For the People's Republic of China, contact Marin Weaver at (202) 482-2336 or Charles Riggle at (202) 482-0650; for India, contact Christopher Hargett at (202) 482-4161; and for Indonesia, contact Natalie Kempky at (202) 482-1698, AD/CVD Operations, Import Administration, International Trade Administration, U.S. Department of Commerce, 14th Street and Constitution Avenue, NW, Washington, DC 20230.

Postponement of Preliminary Determination

On October 6, 2005, the Department of Commerce (“Department”) published the initiation of the antidumping duty investigations of certain lined paper products from India, Indonesia and the People's Republic of China. See Initiation of Antidumping Duty Investigations: Certain Lined Paper Products from India, Indonesia and the People's Republic of China, 70 FR 58374 (October 6, 2005). The notice of initiation stated that we would make our preliminary determinations for these antidumping duty investigations no later than 140 days after the date of issuance of the initiation. Currently, the preliminary determinations are due February 16, 2006.

On January 23, 2006, the Association of American School Paper Suppliers, and its individual members (“Petitioner”), made a timely request pursuant to 19 CFR §351.205(e) for a 30-day postponement of the preliminary determinations. Petitioner requested postponement of the preliminary determinations because it will provide the Department additional time to review submitted questionnaire responses and questionnaire responses not yet received by the Department.

Under section 733(c)(1)(A) of the Tariff Act of 1930, as amended (“the Act”), if Petitioner makes a timely request for a postponement of the preliminary determination, the Department may postpone the preliminary determination under subsection (b)(1) until no later than the 190th day after the initiation of the investigation.

Therefore, for reasons identified by petitioner, we are postponing the preliminary determinations under section 733(c)(1)(A) of the Act by 30 days to March 18, 2006. Because March 18, 2006, falls on a Saturday, the preliminary determinations will be due by March 20, 2006, the next business day. Pursuant to 735(a) of the Act, the deadline for the final determinations will continue to be 75 days after the date of the preliminary determinations, or if extended, up to 135 days after the date of publication of the preliminary determinations in the Federal Register.

This notice is issued and published pursuant to sections 733(c)(2) of the Act and 19 CFR 351.205(f)(i).

Dated: February 3, 2006.
David M. Spooner,
Assistant Secretary for Import Administration.

[FR Doc. E6-1883 Filed 2-9-06; 8:45 am]

Billing Code: 3510-DS-S